DEPARTMENT OF ENERGY

Federal Energy Regulatory Commission

Combined Notice of Filings # 1

February 8, 2007.

Take notice that the Commission received the following electric corporate filings:

Docket Numbers: EC07-58-000.

Applicants: Lockhart Power Company; Milliken & Company.

Description: Milliken & Company and Lockhart Power Company submit a joint application, under Section 203 of the FPA, for disclaimer of jurisdiction or, in the alternative application for approval of internal corporate reorganization.

Filed Date: 2/2/2007.

Accession Number: 20070206-0047.

Comment Date: 5 p.m. Eastern Time on Friday, February 23, 2007.

Take notice that the Commission received the following exempt wholesale generator filings:

Docket Numbers: EG07-38-000.

Applicants: Post Oak Wind, LLC.

Description: Post Oak Wind, LLC submits a notice of Self-Certification of Exempt Wholesale Generator Status.

Filed Date: 2/1/2007.

Accession Number: 20070201-5018.

Comment Date: 5 p.m. Eastern Time on Thursday, February 22, 2007.

Take notice that the Commission received the following electric rate filings:

Docket Numbers: ER99-4122-021; ER00-2268-021; ER99-4124-017

Applicants: APS Energy Services Company; Pinnacle West Capital Corporation; Arizona Public Service Company.

Description: Pinnacle West Capital Corporation et al submit an errata to the Notice of a Non-Material Change in Status of generation capacity filed on 1/19/07.

Filed Date: 02/05/2007.

Accession Number: 20070206-0195.

Comment Date: 5 p.m. Eastern Time on Monday, February 26, 2007.

Docket Numbers: ER02-1330-007.

Applicants: Pacific Gas and Electric Company.

Description: Pacific Gas and Electric Co submits an errata to their 1/17/07 compliance filing, pursuant to FERC's 12/18/06 Order.

Filed Date: 2/6/2007.

Accession Number: 20070208-0094.

Comment Date: 5 p.m. Eastern Time on Tuesday, February 27, 2007.

Docket Numbers: ER04-47-003.

Applicants: PB Financial Services, Inc.

Description: PB Financial Services, Inc submits First Revised FERC Rate Schedule 1, Substitute Original Sheet 1 and an Updated Triennial Market Analysis.

Filed Date: 2/5/2007.

Accession Number: 20070206-0188.

Comment Date: 5 p.m. Eastern Time on Monday, February 26, 2007.

Docket Numbers: ER06-1099-003.

Applicants: Midwest Independent Transmission Operator, Inc.

Description: Midwest Independent Transmission Operator Inc submits its proposed revisions to its Open Access Transmission and Energy Markets Tariff, FERC Electric Tariff, Third Revised Volume 1.

Filed Date: 2/5/2007.

Accession Number: 20070207-0109.

Comment Date: 5 p.m. Eastern Time on Monday, February 26, 2007.

Docket Numbers: ER06-1453-002.

Applicants: PJM Interconnection, LLC.

Description: PJM Interconnection LLC submits a corrected version that addresses the errors found in its 1/9/07 filing of Wholesale Market Participation Agreement.

Filed Date: 1/31/2007.

Accession Number: 20070207-0067.

Comment Date: 5 p.m. Eastern Time on Wednesday, February 21, 2007.

Docket Numbers: ER07-127-002.

Applicants: California Independent System Operator Corporation.

Description: California Independent System Operator Corp submits an errata to its 1/29/06 compliance filing.

Filed Date: 2/2/2007.

Accession Number: 20070207-0018.

Comment Date: 5 p.m. Eastern Time on Friday, February 23, 2007.

Docket Numbers: ER07-352-001.

Applicants: S.D. Warren Company.

Description: SD Warren Co submits a proposed Substitute Original Sheet 1 reflecting a change in Section 6 re its 12/22/06 filing of a petition for order.

Filed Date: 2/2/2007.

Accession Number: 20070207-0097.

Comment Date: 5 p.m. Eastern Time on Friday, February 23, 2007.

Docket Numbers: ER07-357-001.

Applicants: Fenton Power Partners I, LLC.

Description: Fenton Power Partners I, LLC submits its response to the Commission's additional Information Request.

Filed Date: 2/2/2007.

Accession Number: 20070202-5061.

Comment Date: 5 p.m. Eastern Time on Friday, February 23, 2007.

Docket Numbers: ER07-389-001.

Applicants: Power Provider, LLC.

Description: Power Provider, LLC submits a request that the effective cancellation date in its notice be revised from December 29 to December 30.

Filed Date: 1/25/2007.

Accession Number: 20070125-5010.

Comment Date: 5 p.m. Eastern Time on Thursday, February 15, 2007.

Docket Numbers: ER07-475-001.

Applicants: California Independent System Operator.

Description: California Independent System Operator Corp submits a replacement clean Tariff Sheet 346A that contains the omitted portion of proposed tariff Section 24.1.3 re the 1/27/07 compliance filing.

Filed Date: 2/2/2007.

Accession Number: 20070207-0094.

Comment Date: 5 p.m. Eastern Time on Friday, February 23, 2007.

Docket Numbers: ER07-494-000.

Applicants: Southern Company Services, Inc.

Description: Southern Company Services, Inc on behalf Southern Companies submits an errata to its 2/1/07 compliance filing in accordance with Order 2006-B.

Filed Date: 2/2/2007.

Accession Number: 20070207-0020.

Comment Date: 5 p.m. Eastern Time on Friday, February 23, 2007.

Docket Numbers: ER07-503-000.

Applicants: Wisconsin Electric Power Company.

Description: Wisconsin Electric Power Co submits a Notice of Cancellation of FERC Electric Tariff, Third Revised Volume 1, Revised Wholesale Power Service Tariff—Schedule W.

Filed Date: 2/2/2007.

Accession Number: 20070206-0127.

Comment Date: 5 p.m. Eastern Time on Friday, February 23, 2007.

Docket Numbers: ER07-505-000.

Applicants: Wisconsin Electric Power Company.

Description: Wisconsin Electric Power Co submits a Notice of Cancellation of Standby Service Facilities Agreement with the City of New London Utilities.

Filed Date: 2/2/2007.

Accession Number: 20070206-0129.

Comment Date: 5 p.m. Eastern Time on Friday, February 23, 2007.

Docket Numbers: ER07-506-000.

Applicants: PSEG Energy Resources & Trade LLC.

Description: PSEG Energy Resources & Trade LLC submits its Second Substitute Original Sheet 2, to FERC Electric Tariff, Original Volume 2.

Filed Date: 2/2/2007.

Accession Number: 20070206-0128.

Comment Date: 5 p.m. Eastern Time on Friday, February 23, 2007.

Docket Numbers: ER07-513-000.

Applicants: Vermont Transco LLC.

Description: Vermont Transco LLC submits revisions to the 1991 Transmission Agreement that reflects the unique public-private partnership w/various entities located in Vermont.

Filed Date: 2/5/2007.

Accession Number: 20070206-0186.

Comment Date: 5 p.m. Eastern Time on Monday, February 26, 2007.

Docket Numbers: ER07-514-000.

Applicants: G&G Energy, Inc.

Description: G&G Energy, Inc submits a petition for acceptance of initial tariff, waivers and blanket authority.

Filed Date: 2/5/2007.

Accession Number: 20070206-0187.

Comment Date: 5 p.m. Eastern Time on Monday, February 26, 2007.

Docket Numbers: ER07-515-000.

Applicants: Domtar Corporation.

Description: Domtar Corp submits a petition for market-based rate authority, acceptance of initial rate schedule, waivers and blanket authority.

Filed Date: 2/5/2007.

Accession Number: 20070207-0093.

Comment Date: 5 p.m. Eastern Time on Monday, February 26, 2007.

Docket Numbers: ER07-517-000.

Applicants: Midwest Independent Transmission System Operator, Inc.

Description: Midwest Independent Transmission System Operator, Inc. submits a Transmission Interconnection Agreement with Great River Energy and Northern States Power Co.

Filed Date: 2/6/2007.

Accession Number: 20070207-0112.

Comment Date: 5 p.m. Eastern Time on Tuesday, February 27, 2007.

Docket Numbers: ER07-518-000.

Applicants: Louisville Gas & Electric Company; Kentucky Utilities Company.

Description: Louisville Gas and Electric Co and Kentucky Utilities Co submit two service agreements for Cost-Based Sales of Capacity and Energy, Service Agreements 1 and 2, Original Volume No. 5.

Filed Date: 2/6/2007.

Accession Number: 20070207-0096.

Comment Date: 5 p.m. Eastern Time on Tuesday, February 27, 2007.

Docket Numbers: ER07-519-000.

Applicants: Louisville Gas and Electric Company; Kentucky Utilities Company; LG&E Energy Marketing Inc.

Description: Louisville Gas & Electric Company and Kentucky Utilities Co submit amendments to their respective Tariffs for Cost-Based Sales of Capacity and Energy Tariffs to include pro forma service agreement to be effective 2/7/07.

Filed Date: 2/6/2007.

Accession Number: 20070207-0110.

Comment Date: 5 p.m. Eastern Time on Tuesday, February 27, 2007.

Docket Numbers: ER07-520-000.

Applicants: Midwest Independent Transmission System Operator, Inc.

Description: Midwest Independent Transmission System Operator, Inc submits an Amended & Restated Interconnection Agreement with the City of Lebanon, Ohio.

Filed Date: 2/6/2007.

Accession Number: 20070207-0108.

Comment Date: 5 p.m. Eastern Time on Tuesday, February 27, 2007.

Take notice that the Commission received the following foreign utility company status filings:

Docket Numbers: FC07-8-000.

Applicants: Spectra Energy Corp; Union Gas Limited.

Description: Spectra Energy Corp submits a Notice of Self-Certification of Foreign Utility Company Status.

Filed Date: 02/01/2007.

Accession Number: 20070206-0052.

Comment Date: 5 p.m. Eastern Time on Thursday, February 22, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-2539 Filed 2-13-07; 8:45 am]

BILLING CODE 6717-01-P